DEPARTMENT OF TRANSPORTATION

Federal Aviation Administration

14 CFR Part 39

[Docket No. FAA-2012-0275; Directorate Identifier 2012-CE-009-AD; Amendment 39-16981; AD 2012-05-09]

RIN 2120-AA64

Airworthiness Directives; Mooney Aviation Company, Inc. (Mooney) Airplanes

AGENCY: Federal Aviation Administration (FAA), DOT.

ACTION: Final rule; request for comments.

SUMMARY: We are issuing an airworthiness directive (AD) for all Mooney Aviation Company, Inc. (Mooney) Models M20B, M20C, M20D, M20E, M20F, M20G, M20J, M20K, M20L, M20M, M20R, M20S, and M20TN airplanes that supersedes an existing AD that is applicable to certain Model M20R and M20TN airplanes. The existing AD currently requires inspecting the tail pitch trim assembly for correct positioning and proper attachment and inspecting the Huck Bolt fasteners for proper security with repair as necessary for certain Models M20R and M20TN. That AD also requires sending the inspection results to the FAA and Mooney. This AD retains all of the actions, except the reporting requirement from the previous AD and adds airplane models to the applicability. This AD was prompted by a report of an incident on a Mooney Model M20TN airplane regarding failure of the tail pitch trim assembly, which could result in loss of control. We are issuing this AD to correct the unsafe condition on these products.

DATES: This AD is effective March 20, 2012.

The Director of the Federal Register approved the incorporation by reference of certain publications listed in the AD as of March 20, 2012.

We must receive any comments on this AD by May 4, 2012.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Mooney Aviation Company, Inc., 165 Al Mooney Road North, Kerrville, Texas 78028; telephone: (830) 896-6000; email: technicalsupport@mooney.com; Internet: www.mooney.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Andrew McAnaul, Aerospace Engineer, ASW-150 (c/o MIDO-43), 10100 Reunion Place, Suite 650, San Antonio, Texas 78216; telephone: (210) 308-3365; facsimile: (210) 308-3370; email: andrew.mcanaul@faa.gov.

SUPPLEMENTARY INFORMATION:

Discussion

On February 16, 2012, we issued AD 2012-03-52, amendment 39-16958 (77 FR 12179, February 29, 2012), for certain Mooney Aviation Company, Inc. (Mooney) Models M20R and M20TN airplanes. That AD requires inspecting the tail pitch trim assembly for correct positioning and proper attachment and inspecting the Huck Bolt fasteners for proper security with repair as necessary. That AD also requires sending the inspection results to the FAA and Mooney. That AD resulted from a report of an incident on a Mooney Model M20TN airplane regarding failure of the tail pitch trim assembly, which could result in loss of control. We issued that AD to detect incorrect positioning and improper attachment of the trim fitting, hinge, and filler plate of the tail pitch trim assembly and to verify security of the attaching Huck Bolt fasteners, which could lead to failure of the tail pitch trim assembly with consequent loss of pitch control.

Actions Since AD Was Issued

Since we issued AD 2012-03-52 (77 FR 12179, February 29, 2012), we received a report from an owner/operator of a Model M20J airplane who had the airplane inspected and found the same unsafe condition. Since the Models M20B, M20C, M20D, M20E, M20F, M20G, M20J, M20K, M20L, M20M, and M20S airplanes have the same type design as the Models M20R and M20TN airplanes, we determined that these airplanes should be added to the applicability of the AD to ensure that the unsafe condition is addressed on all airplanes of the type design.

Also, Mooney published new service information that includes the expanded airplane applicability and instructions for installing replacement fasteners, if necessary.

Relevant Service Information

We reviewed Mooney Aviation Company, Inc. Service Bulletin No. M20-313A, dated February 29, 2012; and Service Bulletin No. M20-314A, dated February 29, 2012. The service information describes procedures for inspecting the tail pitch trim assembly for correct positioning and proper attachment, inspecting the Huck Bolt fasteners for proper security, and installing replacement fasteners, if necessary.

FAA's Determination

We are issuing this AD because we evaluated all the relevant information and determined the unsafe condition described previously is likely to exist or develop in other products of the same type design.

AD Requirements

This AD requires inspecting the trim fitting, hinge, and filler plate of the tail pitch trim assembly for correct positioning and proper attachment, and inspecting the Huck Bolt fasteners for proper security on all Mooney Models M20B, M20C, M20D, M20E, M20F, M20G, M20J, M20K, M20L, M20M, M20R, M20S, and M20TN airplanes. If incorrect positioning or improper/loose attachment is found, this AD requires installing replacement parts and fasteners. These are the same actions currently required by AD 2012-03-52 for certain Mooney Models M20R and M20TN airplanes, except the reporting requirement is no longer required.

FAA's Justification and Determination of the Effective Date

An unsafe condition exists that requires the immediate adoption of this AD. The FAA has found that the risk to the flying public justifies waiving notice and comment prior to adoption of this rule because failure of the tail pitch trim assembly could result in loss of control. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2012-0275 and directorate identifier 2012-CE-009-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 6,630 airplanes of U.S. registry.

We estimate the following costs to comply with this AD:

Estimated Costs
Action | Labor cost | Parts cost | Cost per product | Cost on U.S. operators
Inspection of the trim fitting, hinge, and filler plate of the tail pitch trim assembly, and security of the Huck Bolt fasteners | 1 work-hour × $85 per hour = $85 | Not applicable | $85 | $563,550

We estimate the following costs to do any necessary replacement of the parts and Huck Bolt fasteners that will be required based on the results of the inspection. We have no way of determining the number of aircraft that might need this repair:

On-Condition Costs
Action | Labor cost | Parts cost | Cost per product
Installation of replacement parts and fasteners, including repair of an incorrectly positioned and/or improperly attached tail pitch trim assembly | 16 work-hours × $85 per hour = $1,360 | $302 | $1,662

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2012-03-52, Amendment 39-16958 (77 FR 12179, February 29, 2012) and adding the following new AD:

2012-05-09 Mooney Aviation Company, Inc. (Mooney): Amendment 39-16981; Docket No. FAA-2012-0275; Directorate Identifier 2012-CE-009-AD.

(a) Effective Date

This AD is effective March 20, 2012.

(b) Affected ADs

This AD supersedes AD 2012-03-52, Amendment 39-16958 (77 FR 12179, February 29, 2012).

(c) Applicability

This AD applies to Mooney Aviation Company, Inc. (Mooney) Models M20B, M20C, M20D, M20E, M20F, M20G, M20J, M20K, M20L, M20M, M20R, M20S, and M20TN airplanes, all serial numbers, certificated in any category.

(d) Subject

Joint Aircraft System Component (JASC)/Air Transport Association (ATA) of America Code 55; Stabilizers.

(e) Unsafe Condition

This AD was prompted by a report of an incident on a Mooney Model M20TN airplane regarding failure of the tail pitch trim assembly and the potential for this condition to exist on other airplane models, which could result in loss of control. We are issuing this AD to correct the unsafe condition on these products.

(f) Compliance

Comply with this AD within the compliance times specified, unless already done.

(g) Inspection

Within the next 10 hours time-in-service March 20, 2012 (after the effective date of this AD), inspect the trim fitting, hinge, and filler plate of the tail pitch trim assembly for correct positioning and proper attachment; and also inspect that the Huck Bolt fasteners are properly secured following Mooney Aviation Company, Inc. Service Bulletin No. M20-313A, dated February 29, 2012.

(h) Corrective Action

If during the inspection required in paragraph (g) of this AD you find incorrect positioning or improper attachment of the trim fitting, hinge, and filler plate of the tail pitch trim assembly; and/or you find loose or improperly installed Huck Bolt fasteners, before further flight, repair and correct the discrepancies following Mooney Aviation Company, Inc. Service Bulletin No. M20-314A, dated February 29, 2012.

(i) Credit for Actions Accomplished in Accordance With Previous Service Information

(1) This paragraph provides credit for inspections required in paragraph (g) of this AD if already done before March 20, 2012 (the effective date of this AD) following Mooney Aviation Company, Inc. Service Bulletin No. M20-313, dated February 7, 2012.

(2) This paragraph provides credit for repairs required in paragraph (h) of this AD if already done before March 20, 2012 (the effective date of this AD) following Mooney Aviation Company, Inc. Service Bulletin No. M20-314, dated February 10, 2012.

(j) Special Flight Permit

Special flight permits are prohibited for this AD.

(k) Alternative Methods of Compliance (AMOCs)

(1) The Manager, Fort Worth ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(l) Related Information

For more information about this AD, contact Andrew McAnaul, Aerospace Engineer, ASW-150 (c/o MIDO-43), 10100 Reunion Place, Suite 650, San Antonio, Texas 78216; telephone: (210) 308-3365; facsimile: (210) 308-3370; email: andrew.mcanaul@faa.gov.

(m) Material Incorporated by Reference

(1) You must use the following service information to do the actions required by this AD, unless the AD specifies otherwise. The Director of the Federal Register approved the incorporation by reference (IBR) under 5 U.S.C. 552(a) and 1 CFR part 51: (i) Mooney Aviation Company, Inc. Service Bulletin No. M20-313A, dated February 29, 2012; and

(ii) Mooney Aviation Company, Inc. Service Bulletin No. M20-314A, dated February 29, 2012.

(2) For service information identified in this AD, contact Mooney Aviation Company, Inc., 165 Al Mooney Road North, Kerrville, Texas 78028; telephone: (830) 896-6000; email: technicalsupport@mooney.com; Internet: www.mooney.com.

(3) You may review copies of the referenced service information at the FAA, Small Airplane Directorate, 901 Locust, Kansas City, Missouri 64106. For information on the availability of this material at the FAA, call (816) 329-4148.

(4) You may also review copies of the service information that is incorporated by reference at the National Archives and Records Administration (NARA). For information on the availability of this material at NARA, call 202-741-6030, or go to: http://www.archives.gov/federal-register/cfr/ibr_locations.html.

Issued in Kansas City, Missouri, on March 13, 2012.
James E. Jackson,
Acting Manager, Small Airplane Directorate, Aircraft Certification Service.

[FR Doc. 2012-6521 Filed 3-19-12; 8:45 am]

BILLING CODE 4910-13-P